DEPARTMENT OF DEFENSE

Office of the Secretary

[Docket ID: DoD-2023-OS-0074]

Submission for OMB Review; Comment Request

AGENCY: United States Special Operations Command (USSOCOM), Department of Defense (DoD).

ACTION: 30-Day information collection notice.

SUMMARY: The USSOCOM has submitted to the Office of Management and Budget (OMB) for clearance the following proposal for collection of information under the provisions of the Paperwork Reduction Act.

DATES: Consideration will be given to all comments received by January 17, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, (571) 344-1358, whs.mc-alex.esd.mbx.dd-dod-information-collections@mail.mil.

SUPPLEMENTARY INFORMATION:

Title; Associated Form; and OMB Number: Optimizing Brain Health by Mitigating Post Traumatic Stress Disorder (PTSD), OMB Control Number: 0704-0654.

Type of Request: Extension.

Survey:

Number of Respondents: 1,536.

Responses per Respondent: 1.

Annual Responses: 1,536.

Average Burden per Response: 30 minutes.

Annual Burden Hours: 768.

Qualitative Interview:

Number of Respondents: 24.

Responses per Respondent: 1.

Annual Responses: 24.

Average Burden per Response: 1 hour.

Annual Burden Hours: 24.

Total:

Number of Respondents: 1,560.

Responses per Respondent: 1.

Annual Responses: 1,560.

Average Burden per Response: 30 minutes.

Annual Burden Hours: 792.

Needs and Uses: The objective is to identify barriers and facilitators of accessing PTSD treatment that are most important to the Special Operations Forces (SOF) community via an online confidential survey of all relevant stakeholders in the healthcare delivery process (N=1,536). Stakeholders will include operators/enablers, healthcare providers, leadership, and policy makers from all SOF commands (Army, Air Force, Naval Special Warfare, Marine). We will then conduct qualitative interviews with SOF operators/enablers (N=24) to generate solutions to the barriers identified in the survey.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan, (571) 344-1358, at whs.mc-alex.esd.mbx.dd-dod-information-collections@mail.mil.

Dated: December 13, 2023.
Aaron T. Siegel,
Alternate OSD Federal Register Liaison Officer, Department of Defense.

[FR Doc. 2023-27740 Filed 12-15-23; 8:45 am]

BILLING CODE 6001-FR-P